DEPARTMENT OF AGRICULTURE

Commodity Credit Corporation

Farm Service Agency

Notice of Availability of the Draft Programmatic Environmental Assessment for the Farm Service Agency's Conservation Reserve Program

AGENCY: Commodity Credit Corporation (CCC), Farm Service Agency (FSA), USDA.

ACTION: Notice of Availability (NOA); request for comments.

SUMMARY: FSA, acting on behalf of the CCC, announces the availability for review and comment the draft Programmatic Environmental Assessment (PEA) assessing the alternatives to and anticipated environmental impacts of potential changes from the Agricultural Improvement Act of 2018 (2018 Farm Bill) to the Conservation Reserve Program (CRP), in compliance with the National Environmental Policy Act of 1969 (NEPA). The intent of this notice is to make the draft PEA available for review and request comments by the public, other agencies, and Tribes on the proposed alternatives and their potential impacts to the human environment. The feedback we receive from this notice will be incorporated into the final PEA, as appropriate, prior to FSA's decision.

DATES: We will consider comments that we receive by October 27, 2019. Comments received after this date will be considered to the extent possible.

ADDRESSES: The CRP draft PEA is available at: https://www.fsa.usda.gov/programs-and-services/environmental-cultural-resource/nepa/current-nepa-documents/index.

We invite you to submit comments on the CRP draft PEA. In your comments, include the volume, date, and page number of this issue of the Federal Register. You may submit comments:

• By mail at Conservation Reserve Program PEA Comments, c/o Cardno-GS, 2496 Old Ivy Road, Suite 300, Charlottesville, VA 22903, or

• Electronically at FPAC.Comments@usda.gov.

FOR FURTHER INFORMATION CONTACT: Dr. Robyn Rose, (202) 720-5104. Persons with disabilities who require alternative means for communication should contact the USDA Target Center at (202) 720-2600 (voice).

SUPPLEMENTARY INFORMATION: FSA is assessing mandatory and potential discretionary changes to CRP resulting from the passage of the 2018 Farm Bill, by preparing a PEA to provide FSA decisionmakers, other agencies, Tribes, and the public with an analysis that evaluates effects in appropriate contexts, describes the intensity of adverse as well as beneficial impacts, and addresses cumulative environmental impacts associated with proposed programmatic changes to these programs. CRP was first authorized in the Food Security Act of 1985 (Pub. L. 99-198, 99 Stat. 1509-1514, 16 U.S.C. 3831-3835), and is governed by regulations in 7 CFR part 1410. CRP is a voluntary program that supports the implementation of long-term conservation measures designed to improve the quality of ground and surface waters, control soil erosion, and enhance wildlife habitat on environmentally sensitive agricultural land. In return, CCC provides participants with rental payments and cost share assistance under contracts that extend from 10 to 15 years. CRP is a CCC program administered by FSA with the support of other Federal, State, and local agencies and organizations. More information on CRP is available at: https://www.fsa.usda.gov/programs-and-services/conservation-programs/conservation-reserve-program/index.

The CRP draft PEA is available at: https://www.fsa.usda.gov/programs-and-services/environmental-cultural-resource/nepa/current-nepa-documents/index. The availability of the CRP draft PEA was announced on September 27, 2019, through an FSA news release; that announcement started the 30-day public comment period.

The draft PEA evaluates No Action and Proposed Action Alternatives to ensure the full range of mandatory and potential discretionary alternatives and impacts are analyzed. The alternatives and impacts included in the draft PEA will be amended, as appropriate, based on input from the public, other agencies, and Tribes submitted during this comment period, in the final PEA and FSA's decision document, which will made available at the site listed above under Addresses.

Robert Stephenson,
Executive Vice President, Commodity Credit Corporation.
Richard Fordyce,
Administrator, Farm Service Agency.

[FR Doc. 2019-21481 Filed 10-2-19; 8:45 am]

BILLING CODE 3410-05-P